DEPARTMENT OF TRANSPORTATION

Federal Aviation Administration

14 CFR Part 39

[Docket No. 98-SW-63-AD; Amendment 39-11550; AD 2000-02-32]

RIN 2120-AA64

Airworthiness Directives; Eurocopter France Model SA. 315B Helicopters

AGENCY: Federal Aviation Administration, DOT.

ACTION: Final rule.

SUMMARY: This amendment supersedes an existing airworthiness directive (AD), applicable to Eurocopter France Model SA. 315B helicopters, that currently requires initial and repetitive visual inspections and modification, if necessary, of the horizontal stabilizer spar tube (spar tube). This amendment requires the same corrective actions as the existing AD and would require an additional dye-penetrant inspection of the half-shell attachment clamps (clamps). This amendment is prompted by an in-service report of fatigue cracks that initiated from corrosion pits. The actions specified by this AD are intended to prevent fatigue failure of the spar tube, separation of the horizontal stabilizer and impact with the main or tail rotor, and subsequent loss of control of the helicopter.

DATES: Effective March 13, 2000.

The incorporation by reference of certain publications listed in the regulations is approved by the Director of the Federal Register as of March 13, 2000.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aerospace Engineer, FAA, Rotorcraft Directorate, Rotorcraft Standards Staff, 2601 Meacham Blvd., Fort Worth, Texas 76137, telephone (817) 222-5116, fax (817) 222-5961.

SUPPLEMENTARY INFORMATION: A proposal to amend part 39 of the Federal Aviation Regulations (14 CFR part 39) by superseding AD 98-12-21, Amendment 39-10575 (63 FR 31610), applicable to Eurocopter France Model SA. 315B helicopters, was published in the Federal Register on November 8, 1999 (64 FR 60743). That action proposed to require initial and repetitive visual inspections and modification, if necessary, of the spar tube, as well as installing safety wire around each attachment clamp.

Interested persons have been afforded an opportunity to participate in the making of this amendment. No comments were received on the proposal or the FAA's determination of the cost to the public. The FAA has determined that air safety and the public interest require the adoption of the rule as proposed except for two nonsubstantive changes that have been made to paragraph (f) and Note 3 of the AD. In paragraph (f), the NPRM incorrectly states that alternative methods of compliance (AMOC) or adjustments of the compliance time may be approved by the “Manager, Rotorcraft Standards Staff, Rotorcraft Directorate.” This is incorrect and has been changed to state that the Manager, Regulations Group, Rotorcraft Directorate, is responsible for approving any AMOC or adjustment of the compliance time. Note 3 of the NPRM states that information concerning the existence of approved AMOC may be obtained from the “Rotorcraft Standards Staff;” this is also incorrect and has been changed to state that information may be obtained from the “Regulations Group.” The FAA has determined that these changes will neither increase the economic burden on any operator nor increase the scope of the AD.

The FAA estimates that 28 helicopters of U.S. registry will be affected by this AD, that it will take approximately 0.5 work hour per helicopter to accomplish the inspections; 3 work hours per helicopter to accomplish the modification; and 0.5 work hour per helicopter to inspect and fit the safety wire. The average labor rate is $60 per work hour. Required parts will cost approximately $1,100 per helicopter. Based on these figures, the total cost impact of the AD on U.S. operators is estimated to be $37,520.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10575 (63 FR 31610), and by adding a new airworthiness directive (AD), Amendment 39-11550, to read as follows:

AD 2000-02-32 Eurocopter France: Amendment 39-11550. Docket No. 98-SW-63-AD. Supersedes AD 98-12-21, Amendment 39-10575, Docket No. 98-SW-02-AD.

Applicability: Model SA. 315B helicopters with horizontal stabilizers, part number (P/N) 315A35-10-000-1, 315A35-10-000-2, or higher dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To prevent fatigue failure of the spar tube, separation of the horizontal stabilizer and impact with the main or tail rotor, and subsequent loss of control of the helicopter, accomplish the following:

(a) Before further flight:

(1) Inspect the aircraft records and the horizontal stabilizer installation to determine whether Modification 072214 (installation of the spar tube without play) or Modification 072215 (adding two half-shells on the spar) has been accomplished.

(2) If Modification 072214 has not been installed, comply with paragraphs 2.A., 2.B.1), 2.B.2)a), and 2.B.2)b) of the Accomplishment Instructions of Eurocopter France Service Bulletin No. 55.01, Revision 4, dated May 4, 1998 (SB). If the fit and dimensions of the components specified in paragraph 2.B.2)a) exceed the tolerances in the applicable structural repair manual, replace with airworthy parts.

(3) If Modification 072215 has not been installed, first comply with paragraphs 2.A., 2.B.1), and 2.B.3), and then comply with paragraph 2.B.2)c) of the Accomplishment Instructions of the SB.

Note 2: Modification kit P/N 315A-07-0221571 contains the necessary materials to accomplish this modification.

(b) Before the first flight of each day:

(1) Visually inspect the installation of the half-shells, the horizontal stabilizer supports, and the horizontal stabilizer for corrosion or cracks. Repair any corroded parts in accordance with the applicable maintenance manual. Replace any cracked components with airworthy parts before further flight.

(2) Confirm that there is no play in the horizontal stabilizer supports by lightly shaking the horizontal stabilizer. If play is detected, comply with paragraphs 2.A. and 2.B.2)a) of the Accomplishment Instructions of the SB. If the fit and dimensions of the components specified in paragraph 2.B.2)a) exceed the tolerances in the applicable structural repair manual, replace with airworthy parts before further flight.

(c) At intervals not to exceed 400 hours time-in-service (TIS) or four calendar months, whichever occurs first, inspect and lubricate the spar tube attachment bolts.

(d) Within 90 calendar days and thereafter at intervals not to exceed 24 calendar months, visually inspect the inside of the horizontal spar tube in accordance with paragraph 2.A. and 2.B.1) of the Accomplishment Instructions of the SB.

(1) If corrosion is found inside the tube, other than in the half-shell area, replace the tube with an airworthy tube within the next 500 hours TIS or 18 calendar months, whichever occurs first.

(2) If corrosion is found inside the tube in the half-shell area, apply a protective treatment as described in paragraph 2.B.1)b) of the Accomplishment Instructions of the SB.

(e) Within 30 calendar days, perform a one-time dye-penetrant inspection for cracking on the 4 attachment clamps (See No. 11 on Figure 3 of the SB) of the half-shells as shown in Figure 3 of the SB. If a crack is found in any clamp, replace the cracked clamp with an airworthy clamp. If no crack is found, safety wire the clamp as shown in Detail C in the SB using two wraps of 0.6-mm or 0.8 mm (.023 or .032 inch) diameter lockwire (See No. 21 on Figure 3 of the SB) around the clamp so that the clamp is held together in the event of clamp failure. After installing the safety wire, inspect the clamps before the first flight of each day in accordance with paragraph (b)(1) of this AD.

(f) An alternative method of compliance or adjustment of the compliance time that provides an acceptable level of safety may be used if approved by the Manager, Regulations Group, Rotorcraft Directorate. Operators shall submit their requests through an FAA Principal Maintenance Inspector, who may concur or comment and then send it to the Manager, Regulations Group.

Note 3: Information concerning the existence of approved alternative methods of compliance with this AD, if any, may be obtained from the Regulations Group.

(g) Special flight permits may be issued in accordance with sections 21.197 and 21.199 of the Federal Aviation Regulations (14 CFR 21.197 and 21.199) to operate the helicopter to a location where the requirements of this AD can be accomplished.

(h) The inspections and modifications shall be done in accordance with the Accomplishment Instructions of Eurocopter France Service Bulletin No. 55.01, Revision 4, dated May 4, 1998. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(i) This amendment becomes effective on March 13, 2000.

Note 4: The subject of this AD is addressed in Direction Generale De L'Aviation Civile (France) AD 96-277-037(A)R2, dated July 29, 1998.

Issued in Fort Worth, Texas, on January 26, 2000.
Henry A. Armstrong,
Manager, Rotorcraft Directorate, Aircraft Certification Service.

[FR Doc. 00-2401 Filed 2-4-00; 8:45 am]

BILLING CODE 4910-13-P